DEPARTMENT OF AGRICULTURE

Office of the Secretary

7 CFR Part 1

[Docket No. USDA-2020-0006]

RIN 0503-AA64

Review and Issuance of Agency Guidance Documents

AGENCY: Office of the Secretary, USDA.

ACTION: Final rule; technical amendment.

SUMMARY: In a final rule published in the Federal Register on June 3, 2020, and effective on July 6, 2020, we amended the U.S. Department of Agriculture's administrative regulations by adding procedural regulations for the review and issuance of agency guidance documents as mandated by Executive Order. The final rule contained an incorrect email address and a provision that is inconsistent with the Executive Order and other provisions of the final rule. This document addresses those issues.

DATES: September 8, 2020.

FOR FURTHER INFORMATION CONTACT: Mr. Stephen O'Neill, Office of Budget and Program Analysis, USDA, 1400 Independence Avenue SW, Washington, DC 20250-1400, (202) 720-0038.

SUPPLEMENTARY INFORMATION: In a final rule that was published in the Federal Register on June 3, 2020 (85 FR 34085-34087, Docket No. USDA-2020-0006), and effective on July 6, 2020, we amended the U.S. Department of Agriculture's (USDA's) administrative regulations by adding procedural regulations for the review and issuance of agency guidance documents as mandated by Executive Order (E.O.) 13891. These regulations were added to the USDA regulations in title 7, part 1, as a new subpart Q, Review and Issuance of Agency Guidance Documents (§§ 1.900 through 1.911).

In the final rule, § 1.904(c) referred to the proposing agency or USDA's Office of Budget and Program Analysis as making significance determinations for guidance documents, when in actuality, E.O. 13891 provides that it is the Office of Management and Budget that makes those determinations (a fact reflected in § 1.905). Accordingly, we are amending § 1.904(c) to bring it into alignment with the executive order and the rest of the regulations.

In addition, § 1.907 provided an incorrect email address for contacting USDA regarding guidance documents. We are correcting that error as well.

List of Subjects in 7 CFR Part 1

Administrative practice and procedure, Antitrust, Claims, Cooperatives, Courts, Equal access to justice, Fraud, Freedom of information, Government employees, Indemnity payments, Lawyers, Motion pictures, Penalties, Privacy.

Accordingly, we are amending 7 CFR part 1, subpart Q, as follows:

PART 1—ADMINISTRATIVE REGULATIONS

1. The authority citation for part 1 continues to read as follows:

Authority: 5 U.S.C. 301, unless otherwise noted.

§ 1.904 [Amended]

2. In § 1.904, paragraph (c) is amended by removing the words “the proposing agency or OBPA” and adding the word “OMB” in their place.

§ 1.907 [Amended]

3. Section 1.907 is amended by removing the address “guidance.inquiries@usda.gov” and adding the address “OBPA-GuidanceInquiries@usda.gov” in its place.

Stephen L. Censky,
Deputy Secretary, U.S. Department of Agriculture.

[FR Doc. 2020-17652 Filed 9-4-20; 8:45 am]

BILLING CODE 3410-90-P